DEPARTMENT OF THE INTERIOR

National Park Service

AGENCY National Park Service; Interior.

ACTION Notice of Boundary Revision, Indiana Dunes National Lakeshore, Indiana.

SUMMARY: This notice announces a revision of the boundaries of Indiana Dunes National Lakeshore, Indiana, to include within the boundaries fifteen (15) parcels of land.

FOR FURTHER INFORMATION CONTACT: Superintendent, Indiana Dunes National Lakeshore, 1100 N. Mineral Springs Road, Porter, Indiana 46304, or by telephone 219-938-7561.

SUPPLEMENTARY INFORMATION: Notice is hereby provided that the boundaries of Indiana Dunes National Lakeshore are revised. This revision is effective upon publication of this notice, to include certain parcels of real property situated in the Counties of LaPorte and Porter, State of Indiana. These parcels have been donated to the United States and they are contiguous to the National Lakeshore boundaries. These parcels contain 0.36 of an acre more or less in LaPorte County, and 31.67 acres more or less in Porter County.

The parcels are identified as follows:

LaPorte County:

Tract 98-108 on Segment Map 98 Drawing No. 626/35,098.

Porter County:

Tract 09-113 on Segment Map 09 Drawing No. 626/35,009.

Tracts 22-106 and 22-107 on Segment Map 22 Drawing No. 626/35,022.

Tract 35-118 on Segment Map 35 Drawing No. 626/35,035.

Tract 41-103 on Segment Map 41 Drawing No. 626/35,041.

Tract 72-110 on Segment Map 72 Drawing No. 626/35,072.

Tracts 99-134, 99-135, 99-136, and 99-137, on Segment Map 99 Drawing No. 626/35,099.

Tracts 101-11, 101-12, 101-13, and 101-14, on Segment Map 101 Drawing No. 626/35,101.

All of the above-cited Segment Maps are dated January 3, 2000. These maps and related detailed information are on file at the National Park Service, Midwest Region, 1709 Jackson Street, Omaha, Nebraska 68102-2571.

Dated: January 20, 2000.
William W. Schenk,
Regional Director, Midwest Region.

[FR Doc. 00-5004 Filed 3-1-00; 8:45 am]

BILLING CODE 4310-70-P